DEPARTMENT OF TRANSPORTATION

Federal Aviation Administration

14 CFR Part 97

[Docket No. 30245; Amdt. No. 2048]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charge printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airport, Navigation (air).

Dated: Issued in Washington, DC on April 27, 2001.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

**Effective May 17, 2001

Pittsburgh, PA, Pittsburgh International, ILS RWY 10C, Orig

Pittsburgh, PA, Pittsburgh International, ILS RWY 28C, Orig

Union City, TN, Everett-Stewart, SDF RWY 1, Amdt 5, CANCELLED

Union City, TN, Everett-Stewart, NDB OR GPS RWY 1, Amdt 6

Union City, TN, Everett-Stewart, ILS RWY 1, Orig

***Effective July 12, 2001

Dothan, AL, Dothan Regional, RNAV (GPS) RWY 14, Orig

Dothan, AL, Dothan Regional, RNAV (GPS) RWY 18, Orig

Tuskegee, AL, Moton Field Muni, VOR-A, Amdt 4

Tuskegee, AL, Moton Field Muni, RNAV (GPS) RWY 13, Orig

Tuskegee, AL, Moton Field Muni, RNAV (GPS) RWY 31, Orig

Bethel, AK, Bethel, VOR/DME-B, Orig

Bethel, AK, Bethel, RNAV (GPS)-A, Orig

Emmonak, AK, Emmonak, RNAV (GPS) RWY 16, Orig

Emmonak, AK, Emmonak, RNAV (GPS) RWY 34, Orig

Fort Smith, AR, Fort Smith Regional, RNAV (GPS) RWY 1, Orig

Fort Smith, AR, Fort Smith Regional, RNAV (GPS) RWY 7, Orig

Fort Smith, AR, Fort Smith Regional, RNAV (GPS) RWY 25, Orig

Fort Smith, AR, Fort Smith Regional, ILS RWY 25, Amdt 21

Fort Smith, AR, Fort Smith Regional, NDB RWY 7, Amdt 8

Fort Smith, AR, Fort Smith Regional, VOR/DME OR TACAN RWY 7, Amdt 11

Fort Smith, AR, Fort Smith Regional, RADAR-1, Amdt 8

Gainesville, FL, Gainesville Regional, RNAV (GPS) RWY 6, Orig

Gainesville, FL, Gainesville Regional, RNAV (GPS) RWY 10, Orig

Gainesville, FL, Gainesville Regional, RNAV (GPS) RWY 24, Orig

Gainesville, FL, Gainesville Regional, RNAV (GPS) RWY 28, Orig

Gainesville, FL, Gainesville Regional, GPS RWY 6, Orig, CANCELLED

Gainesville, FL, Gainesville Regional, GPS RWY 10, Orig, CANCELLED

Gainesville, FL, Gainesville Regional, GPS RWY 24, Orig, CANCELLED

Gainesville, FL, Gainesville Regional, GPS RWY 28, Orig, CANCELLED

Thomson, GA, Thomson-McDuffie County, NDB RWY 10, Orig

Thomson, GA, Thomson-McDuffie County, ILS RWY 10, Orig

Colby, KS, Shaltz Field, RNAV RWY 17, Orig

Colby, KS, Shaltz Field, RNAV RWY 35, Orig

Colby, KS, Shaltz Field, NDB RWY 17, Amdt 1

Pittsburg, KS, Atkinson Muni, RNAV (GPS) RWY 3, Orig

Pittsburg, KS, Atkinson Muni, RNAV (GPS) RWY 16, Orig

Pittsburg, KS, Atkinson Muni, RNAV (GPS) RWY 21, Orig

Pittsburg, KS, Atkinson Muni, RNAV (GPS) RWY 34, Orig

Pittsburg, KS, Atkinson Muni, NDB-A, Orig

Pittsburg, KS, Atkinson Muni, VOR/DME RWY 3, Amdt 3

Pittsburg, KS, Atkinson Muni, NDB OR GPS RWY 16, Amdt 3A, CANCELLED

St. James, MN, St. James Muni, RNAV (GPS) RWY 15, Orig

St. James, MN, St. James Muni, RNAV (GPS) RWY 33, Orig

Columbia, MO, Columbia Regional, VOR RWY 13, Amdt 3

Columbia, MO, Columbia Regional, VOR RWY 20, Amdt 4

Columbia, MO, Columbia Regional, VOR/DME RWY 20, Amdt 3

Columbia, MO, Columbia Regional, NDB RWY 2, Amdt 9

Columbia, MO, Columbia Regional, RNAV (GPS) RWY 2, Orig

Columbia, MO, Columbia Regional, RNAV (GPS) RWY 13, Orig

Columbia, MO, Columbia Regional, RNAV (GPS) RWY 20, Orig

Columbia, MO, Columbia Regional, RNAV (GPS) RWY 31, Orig

Lebanon, MO, Floyd W. Jones Lebanon, RNAV RWY 18, Orig

Lebanon, MO, Floyd W. Jones Lebanon, RNAV RWY 36, Orig

Lebanon, MO, Floyd W. Jones Lebanon, NDB RWY 36, Amdt 6

Lebanon, MO, Floyd W. Jones Lebanon, SDF RWY 36, Amdt 5

Salem, MO, Salem Memorial, VOR-A, Orig

Salem, MO, Salem Memorial, RNAV (GPS) RWY 17 Orig

Salem, MO, Salem Memorial, RNAV (GPS) RWY 35, Orig

Washington, MO, Washington Memorial, RNAV RWY 16, Orig

Washington, MO, Washington Memorial, RNAV RWY 34, Orig

Washington, MO, Washington Memorial, VOR RWY 16, Amdt 2

Lehighton, PA, Jake Arner Memorial, NDB RWY 8, Amdt 3

Lehighton, PA, Jake Arner Memorial, NDB RWY 26, Amdt 4

Lehighton, PA, Jake Arner Memorial, RNAV (GPS) RWY 8, Orig

Lehighton, PA, Jake Arner Memorial, RNAV (GPS) RWY 26, Orig

Rapid City, SD, Rapid City Regional, VOR OR TACAN RWY 14, Orig-B

Rapid City, SD, Rapid City Regional, RNAV (GPS) RWY 14, Orig

Knoxville, TN, McGhee Tyson, RNAV (GPS) RWY 5L, Orig

Knoxville, TN, McGhee Tyson, RNAV (GPS) RWY 23R, Orig

Appleton, WI, Outagamie County Regional, RNAV (GPS) RWY 29, Orig

Note: The FAA published the following procedures in Docket No. 30243, Amdt. No. 2046 to Part 97 of the Federal Aviation Regulation (VOL 66, No. 78, Page 20392, dated Monday, April 23, 2001) under section 97.33 effective May 17, 2001, which are hereby amended as follows:

Change effective date to 12 July 2001 for the following procedures:

Dothan, AL, Dothan Regional, RNAV (GPS) RWY 14, Orig

Dothan, AL, Dothan Regional, RNAV (GPS) RWY 18, Orig

Emmonak, AK, Emmonak, RNAV (GPS) RWY 16, Orig

Emmonak, AK, Emmonak, RNAV (GPS) RWY 34, Orig

Note: The FAA published the following procedures in Docket No. 30243, Amdt. No. 2046 to Part 97 of the Federal Aviation Regulation (VOL 66, No. 78, Page 20392, dated Monday, April 23, 2001) under section 97.33 effective July 12, 2001, which are hereby amended as follows:

Wilmington, NC, Wilmington Intl, GPS RWY 6, Amdt 1A, Should Read: GPS RWY 6 Amdt 1A CANCELLED

Wilmington, NC, Wilmington Intl, GPS RWY 24, Amdt 1A, Should Read: GPS RWY 24 Amdt 1A CANCELLED

[FR Doc. 01-11255 Filed 5-3-01; 8:45 am]

BILLING CODE 4910-13-M